NUCLEAR REGULATORY COMMISSION

Advisory Committee on Reactor Safeguards Meeting of The ACRS Subcommittee on Plant Operations; Notice of Meeting

The ACRS Subcommittee on Plant Operations will hold a meeting on July 26, 2006, at the U.S. NRC Region I, 475 Allendale Road, King of Prussia, Pennsylvania.

The entire meeting will be open to public attendance.

The agenda for the subject meeting shall be as follows:

Wednesday, July 26, 2006—8:30 a.m. until the conclusion of business.

The Subcommittee and Region I will discuss regional inspection, enforcement, and operational activities. The Subcommittee will gather information, analyze relevant issues and facts, and formulate proposed positions and actions, as appropriate, for deliberation by the full Committee.

Members of the public desiring to provide oral statements and/or written comments should notify the Designated Federal Official, Mr. Michael A. Junge (telephone 301-415-6855) five days prior to the meeting, if possible, so that appropriate arrangements can be made. Electronic recordings will be permitted.

Further information regarding this meeting can be obtained by contacting the Designated Federal Official between 6:45 a.m. and 3:30 p.m. (e.t.). Persons planning to attend this meeting are urged to contract the above named individual at least two working days prior to the meeting to be advised of any potential changes to the agenda.

Dated: June 14, 2006.
Michael R. Snodderly,
Branch Chief, ACRS/ACNW.

[FR Doc. E6-9704 Filed 6-20-06; 8:45 am]

BILLING CODE 7590-01-P